FEDERAL COMMUNICATIONS COMMISSION

Schedule Change; FCC To Hold Open Commission Meeting Thursday, July 2, 2009

July 1, 2009.

Please note that the time for the Federal Communications Commission Open Meeting is rescheduled from 10 a.m. to 11:30 a.m.

The Meeting will include a presentation on the status of the Commission's process for developing a National Broadband Plan and a presentation on the Digital Television transition.

Federal Communications Commission.
Marlene H. Dortch,
Secretary.

[FR Doc. E9-15922 Filed 7-1-09; 4:15 pm]

BILLING CODE 6712-01-P